DEPARTMENT OF HOMELAND SECURITY

Senior Executive Service Performance Review Board

AGENCY: Office of the Secretary, DHS.

ACTION: Notice of Federal Register.

SUMMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service, Senior Level and Senior Professional positions of the Department.

DATES: Effective Dates: This Notice is effective September 9, 2014.

FOR FURTHER INFORMATION CONTACT: Elizabeth Haefeli, Office of the Chief Human Capital Officer, telephone (202) 357-8164.

SUPPLEMENTARY INFORMATION: Each federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Acton, John

Alles, Randolph D.

Allison, Roderick J.

Amparo, Alexis

Anderson, Penny

Anderson, Rose J.

Andrews, John

Armstrong, Charles R.

Armstrong, Sue

Auletta, Laura

Baer, Thomas

Baran, Kathy

Barber, Delores

Baroukh, Nader

Barrett, Lawrence

Barrows, Angela

Bathurst, Donald

Batkin, Joshua

Bauhs, Kimberlyn

Beagles, James

Beckham, Steward D.

Beers, Rand

Berger, Katrina W.

Bersin, Alan

Bester, Margot

Bibo, David R.

Blume, Mark

Bobich, Jeffrey

Borkowski, Mark S.

Boshears, Kevin

Boyce, Carla J.

Braccio, Dominick D.

Bradsher, Tanya

Brandon, Andrea

Brasure, Lloyd

Breor, Scott

Brinsfield, Kathryn

Brooks, Vicki

Brothers, L. Reginald

Brown, Dallas

Brown, Meddie

Brown, Michael

Brundage, William

Brzymialkiewicz, Caryl

Burriesci, Kelli

Button, Christopher

Caggiano, Marshall L.

Cahill, Donna L.

Caine, Jeffrey

Callahan, Colleen B.

Callahan, David R. RADM

Cameron, Michael K.

Campagnolo, Donna

Canevari, Holly

Cantor, Jonathan

Carpenter, Dea D.

Carraway, Melvin J.

Carter, Gary

Castro, Raul

Chaleki, Thomas

Chavez, Richard

Choi, Juliet

Cioppa, Thomas

Clark, Kenneth

Clever, Daniel

Cline, Richard

Coffman, Katherine M.

Cohn, Alan

Coleman, Corey J.

Colucci, Nicholas

Conklin, Jeffery

Conklin, William

Connolly, John G.

Connor, Edward L.

Correa, Soraya

Coven, Phyllis

Cowan, Robert

Cox, Adam

Crumpacker, Jim

Cummiskey, Chris

Daitch, William

Darling, Michael

Dayton, Mark

de Vallance, Brian

DiFalco, Frank

DiNucci, Richard F.

Dipippa, Kathy L.

Dolan, Mark E.

Dorko, Jeffrey J.

Dorochoff, Ruth

Driggers, Richard

Duong, Anh

Durkovich, Caitlin

Edge, Peter T

Edwards, Eric L.

Eisensmith, Jeffrey

Emerson, Catherine

Emrich, Matthew

Ennis, Eileen

Epstein, Gerald

Erevia, Victor

Essid, Michael

Etzel, Jean

Evetts, Mark

Fagerholm, Eric N.

Falk, Scott K.

Farley, Evan T.

Farmer, Robert A.

Fenton, Robert J.

Fisher, Michael J.

Fitzgerald, Karen

Flynn, William

Fonash, Peter

Fox, Katherine B.

Fox, Kathleen M.

Frazier, Denise

Freeman, Beth A.

Frey, Gregory

Fujimura, Paul N.

Fulghum, Charles

Gabbrielli, Tina

Gaines, Glenn A.

Gammon, Carla

Gantt, Kenneth

Garner, David

Geiselman, Sandra

Gerstein, Daniel

Gersten, David

Gibson, Kathleen M.B.

Goode, Brendan

Gowadia, Huban

Gramlick, Carl

Grant, David

Graves, Margaret

Greene, Jonath

Griffin, Robert

Grimm, Michael

Gruber, Corey D.

Gunter, Brett A.

Hall, Christopher J.

Hardiman, Tara

Havranek, John F.

Hazuda, Mark

Heller, Susan J.

Henderson, Latetia M.

Hess, David

Hewitt, Ronald

Higgins, Jennifer

Highsmith, AnnMarie

Hill, Alice

Hill, Marcus L.

Hill, Mark

Hinojosa, Ana B.

Hochman, Kathleen

Hoggan, Kelly C.

Holtermann, Keith

Homan, Thomas

Hoy, Serena

Hutchison, Steven

Hylton, Roberto L.

Ileto, Carlene

Ingram, Deborah

Jaddou, Ur M.

Jensen, Robert

Johnson Perryman, Janet

Johnson, Daniel

Johnson, Edward H.

Johnson, James

Johnson, Jeh

Jones Jr., Berl D.

Jones, Franklin C.

Jones, Keith

Jones, Rendell L.

Kamoie, Brian

Kaufman, David J.

Keene, Delma K.

Keene, Kenneth D.

Kendall, Sarah

Kerner, Francine

Kessler, Tamara

Kielsmeier, Lauren

Kieserman, Brad J.

Kish, James R.

Kopel, Richard

Koumans, Marnix

Kramar, John

Krizay, Glenn

Kronisch, Matthew L.

Kruger, Mary

Kruger, Randy

Kubiak, Lev J.

Lafferty, John

Lajoye, Darby R.

Langlois, Joseph

Lederer, Calvin M.

Lew, Kimberly

Logan, Christopher

Looney, Robert

Ludtke, Meghan G.

Lumpkins, Donald M.

Lyon, Shonnie

Mabeus, Steven

Mack, Megan

Magaw, Craig D.

Maher, Joseph B.

Manaher, Colleen M.

Mapar, Jalal

Marchio, Gregory A.

Marcott, Stacey

Marrone, Christian

Marshall, Gregory

Martoccia, Anthony R.

Maughan, William

May, Major P.

Mayorkas, Alejandro

McAleenan, Kevin K.

McAllister, Scott

McClain, Ellen

McCormack, Luke

McDonald, Christina E.

McMillan, Howard

McNamara, Philip

McPeek, Steven

Meckley, Tammy

Melero, Mariela

Menna , Jenny

Metzler, Alan

Meyer, Jonathan E.

Micone, Vincent

Miles, John

Miller, David L.

Mitchell, Andrew

Mocny, Robert

Monica, Donald

Montoya, Elisa

Moore, Joseph

Morrissey, Paul S.

Moses, Patrick

Moynihan, Timothy M.

Mulligan, Ricci

Murphy, Jane P.

Murphy, Kenneth D.

Muzyka, Carolyn

Myers, David L.

Myers, Raymond

Neufeld, Donald W.

Neuman, Karen

Nimmich, Joseph L.

Novak, Michael, R.

Odom, Maria

Okada, Ted T.

Olavarria, Esther

Oliver, Clifford E.

Onieal, Denis G.

Orner, Jeffery

Ozben, Esra

Ozment, James

Palmer, David J.

Paramore, Faron K.

Paschall, Robert

Patel, Nimesh

Patrick, Connie L.

Patterson, Leonard

Pelowski, Gregg

Penn, Damon C.

Phillips, Sally

Pierson, Julia A.

Pietropaoli, Lori

Pino, Lisa

Pohlman, Teresa

Potts, Michael

Pupillo, Dale A.

Ramanathan, Sue

Ramlogan, Riah

Redman, Kathy

Reeder, Victoria A.

Renaud, Daniel

Renaud, Tracy

Reuther, Kurt

Rhew, Perry

Richardson, Gregory

Riordan, Denis

Robbins, Timothy

Robinson, David M.

Robinson, George

Robinson, Kristin

Roche, William W.

Rodriguez, Leon

Rogers, Debra

Rosen, Paul

Rosenberg, Ron

Roy, Donna

Ruppel, Joanna

Russell, Anthony A.

Russell, Michael

Ryan, Paul

Rynes, Joel

Salazar, Ronald

Saunders, Steve D.

Savastana, Anthony J.

Scanlon, Julie A.

Schied, Eugene H.

Schmelzinger, Gilbert

Schneck, Phyllis

Schreiber, Tonya

Schwartz, Mark

Scialabba, Lori

Seale, Mary

Sekar, Radha C.

Selby, Cara

Sevier, Adrian

Shahoulian, David

Shelton Waters, Karen R.

Short, Victoria

Silvers, Robert

Singleton, Kathy

Smiley, Dennis

Smislova, Melissa

Smith, A.T.

Smith, Bradley W.

Smith, Thomas

Snellings, Sharon C.

Snow, Avie

Solheim, Linda

Spaulding, Suzanne

Stader, James

Stallworth, Charles E.

Stanley, Kathleen

Stanton, John

Stempfley, Roberta

Stewart, Sharon

Strack, Barbara

Streufert, John

Sulc, Brian

Sutherland, Daniel

Swacina, Linda

Swain, Donald

Swartz, Neal J.

Swengros, Richard

Taylor, Charles

Taylor, Francis

Teets, Gregory L.

Tennyson, Stephanie L.

Thomas, Rob C.

Thompson, John

Thoreen, William

Tierney, MaryAnn E.

Toler, Jacob

Torrence, Donald

Touhill, Gregory

Tuttle, James

Ulianko, John

Vanison, Denise

Veitch, Alexandra

Velarde, Barbara

Velasquez III, Andrew

Venture, Veronica

Vincent, Peter S.

Wagner, John P.

Walton, Kimberly H.

Warrick, Thomas

Watson, Daniel M.

Wenchel, Rosemary

White, Willie

Williams, Dwight M.

Williams, Gerard J.

Williams, Richard

Windham, Nicole

Wisniewski, Leo

Wright, Roy E.

Wulf, David

Zabko, John

Zelvin, Lawrence

Zimmerman, Elizabeth A.

Zuchowski, Laura

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: August 28, 2014.
Shonna R. James,
Manager, Executive Resources Policy, Office of the Chief Human Capital Officer.

[FR Doc. 2014-21336 Filed 9-8-14; 8:45 am]

BILLING CODE 9110-9B-P